DEPARTMENT OF ENERGY

Federal Energy Regulatory Commission

Notice of Application Tendered for Filing with the Commission and Soliciting Additional Study Requests

November 8, 2000.

Take notice that the following hydroelectric application has been filed with the Commission and is available for public inspection.

a. Type of Application: New Minor License.

b. Project No.: P-2835-005.

c. Date Filed: October 27, 2000.

d. Applicant: New York State Electric & Gas Corporation.

e. Name of Project: Rainbow Falls Hydroelectric Project.

f. Location: On the Ausable River, in the townships of Ausable and Chesterfield, Clinton and Essex counties, New York. The project would not use federal lands.

g. Filed Pursuant to: Federal Power Act 16 U.S.C. 791(a)-825(r).

h. Applicant Contact: Carol Howland, New York State Electric & Gas Corporation, Corporate Drive—Kirkwood Industrial Park, P.O. Box 5224, Binghamton, NY 13902-5224; (607) 762-8881.

i. FERC Contact: Jarrad Kosa, (202) 219-2831.

j. Deadline for filing additional study requests pursuant to 18 CFR 4.32(b)(7) of the Commission's regulations: December 26, 2000.

All documents (original and eight copies) should be field with: David P. Boergers, Secretary, Federal Energy Regulatory Commission, 888 First Street, NE, Washington, DC 20426. Comments and protests may be filed electronically via the internet in lieu of paper. See, 18 CFR 385.2001(a)(1)(iii) and the instructions on the Commission's web site at http://www.ferc.fed.us/efi/doorbell.htm.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. The application is not ready for environmental analysis at this time.

l. The Rainbow Falls Hydroelectric Project consists of: (1) An existing 345-foot-long and 16-foot-high dam; (2) an existing 17-acre reservoir having a storage capacity of 180-acre-feet at an elevation of 307.0 feet above mean sea level; (3) a powerhouse containing two generating units for a total installed capacity of 2,640 kilowatts; and (4) existing transmission and appurtenant facilities. The project is estimated to generate an average of 14 million kilowatt hours annually. The dam and project facilities are owned by the applicant.

m. A copy of the application is available for inspection and reproduction at the Commission's Public Reference Room, located at 888 First Street, NE, Room 2-A, Washington, D.C. 20426, or by calling (202) 208-1371. The application may be viewed on http://www.ferc.fed.us/online/rims.htm (call (202) 208-2222 for assistance). A copy is also available for inspection and reproduction at the address in item h above.

n. With this notice, we are initiating consultation with the New York State Historic Preservation Officer (SHPO), as required by § 106, National Historic Preservation Act, and the regulations of the Advisory Council on Historic Preservation, 36 CFR 800.4.

Linwood A. Watson, Jr.
Acting Secretary.

[FR Doc. 00-29195 Filed 11-14-00; 8:45 am]

BILLING CODE 6717-01-M